DEPARTMENT OF TRANSPORTATION

Federal Aviation Administration

14 CFR Part 39

[Docket No. FAA-2016-9430; Directorate Identifier 2016-NM-051-AD; Amendment 39-18874; AD 2017-09-12]

RIN 2120-AA64

Airworthiness Directives; ATR-GIE Avions de Transport Régional Airplanes

AGENCY: Federal Aviation Administration (FAA), Department of Transportation (DOT).

ACTION: Final rule.

SUMMARY: We are adopting a new airworthiness directive (AD) for certain ATR-GIE Avions de Transport Régional Model ATR42-500 airplanes and Model ATR72-102, -202, -212, and -212A airplanes. This AD was prompted by reports of failure of emergency power supply units (EPSUs) in production and in service. This AD requires an inspection to determine the part number and serial number of each EPSU, and replacement if necessary. We are issuing this AD to address the unsafe condition on these products.

DATES: This AD is effective June 27, 2017.

The Director of the Federal Register approved the incorporation by reference of certain publications listed in this AD as of June 27, 2017.

ADDRESSES: For ATR service information identified in this final rule, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com.

For COBHAM service information identified in this final rule, contact COBHAM Aerospace Communications, 174-178 Quai de Jemmapes, Paris, France, 75010; telephone +33 (0) 1 53 38 98 98; fax +33 (0) 1 42 00 67 83; Internet www.cobham.com.

You may view this referenced service information at the FAA, Transport Airplane Directorate, 1601 Lind Avenue SW., Renton, WA. For information on the availability of this material at the FAA, call 425-227-1221. It is also available on the Internet at http://www.regulations.gov by searching for and locating Docket No. FAA-2016-9430.

Examining the AD Docket

You may examine the AD docket on the Internet at http://www.regulations.gov by searching for and locating Docket No. FAA-2016-9430; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Shahram Daneshmandi, Aerospace Engineer, International Branch, ANM-116, Transport Airplane Directorate, FAA, 1601 Lind Avenue SW., Renton, WA 98057-3356; telephone 425-227-1112; fax 425-227-1149.

SUPPLEMENTARY INFORMATION:

Discussion

We issued a notice of proposed rulemaking (NPRM) to amend 14 CFR part 39 by adding an AD that would apply to certain ATR-GIE Avions de Transport Régional Model ATR42-500 airplanes and Model ATR72-102, -202, -212, and -212A airplanes. The NPRM published in the Federal Register on December 1, 2016 (81 FR 86627). The NPRM was prompted by reports of failure of EPSUs in production and in service. The NPRM proposed to require an inspection to determine the part number and serial number of each EPSU, and replacement if necessary. We are issuing this AD to detect and correct defective internal electronic components, which could adversely affect the EPSU internal battery. This condition could result in a partial or total loss of emergency lighting, possibly affecting passenger evacuation during an emergency situation.

The European Aviation Safety Agency (EASA), which is the Technical Agent for the Member States of the European Union, has issued EASA AD 2016-0070, dated April 11, 2016; corrected April 12, 2016 (referred to after this as the Mandatory Continuing Airworthiness Information, or “the MCAI”); to correct an unsafe condition for certain ATR-GIE Avions de Transport Régional Model ATR42-500 airplanes and Model ATR72-102, -202, -212, and -212A airplanes. The MCAI states:

Some failure cases have been reported of emergency power supply units (EPSU), Part Number (P/N) 301-3100 Amdt [Amendment] A, both on the production line and in service. The results of the technical investigations revealed that these failures could have been caused by a defective internal electronic component, which could affect the EPSU internal battery charge.

This condition, if not detected and corrected, could result in a partial or total (depending on number of affected EPSUs installed) loss of emergency lighting, possibly affecting passenger evacuation during an emergency situation.

To address this potential unsafe condition, ATR issued Service Bulletin (SB) ATR42-33-0050 and SB ATR72-33-1043 to provide instructions to inspect EPSUs.

For the reason described above, this [EASA] AD requires identification and replacement of the affected EPSUs with serviceable units.

This [EASA] AD was republished to correct two typographical errors in paragraph (3) of the [EASA] AD and to specify the correct Revision (3) of the Cobham SB 301-3100-33-002.

You may examine the MCAI in the AD docket on the Internet at http://www.regulations.gov by searching for and locating Docket No. FAA-2016-9430.

Comments

We gave the public the opportunity to participate in developing this AD. The following presents the comment received on the NPRM and the FAA's response to that comment.

Request To Refer to Revised Service Information

Empire Airlines requested that the NPRM be revised to refer to the current revision levels of the applicable ATR service information, which were issued by ATR after the NPRM was published in the Federal Register. Empire Airlines noted that the revised service information does not include any additional actions for airplanes on which the previous service information was accomplished and the serial numbers of the parts to be inspected have not changed.

We agree with the commenter's request for the reasons provided by the commenter. In paragraph (g) of the proposed AD, we identified ATR Service Bulletin ATR42-33-0050, Revision 01, dated January 26, 2016; and ATR Service Bulletin ATR72-33-1043, Revision 01, dated January 26, 2016; as the appropriate sources of service information for doing the EPSU inspection and corrective actions. We have revised paragraph (g) of this AD to refer to ATR Service Bulletin ATR42-33-0050, Revision 03, dated May 25, 2016; and ATR Service Bulletin ATR72-33-1043, Revision 03, dated July 20, 2016; as the appropriate sources of service information for accomplishing the required actions.

We have also revised paragraph (k) of this AD to provide credit for the actions required by paragraph (g) of this AD if those actions were performed before the effective date of this AD using the service information identified in paragraphs (k)(1) through (k)(6) of this AD.

Conclusion

We reviewed the relevant data, considered the comment received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

ATR has issued Service Bulletin ATR42-33-0050, Revision 03, dated May 25, 2016; and ATR Service Bulletin ATR72-33-1043, Revision 03, dated July 20, 2016. This service information describes procedures for inspecting an EPSU to determine the part number, serial number, and amendment level, and replacing the EPSU. These documents are distinct since they apply to different airplane models.

Cobham Aerospace Communications has issued COBHAM Service Bulletin 301-3100-33-002, Revision 3, dated July 30, 2015, which describes procedures for modifying an EPSU by replacing the printed circuit board.

This service information is reasonably available because the interested parties have access to it through their normal course of business or by the means identified in the ADDRESSES section.

Costs of Compliance

We estimate that this AD affects 11 airplanes of U.S. registry.

We estimate the following costs to comply with this AD:

Estimated Costs
Action | Labor cost | Parts cost | Cost per product | Cost on U.S. operators
Inspection | 1 work-hour × $85 per hour = $85 per EPSU | $0 | $85 per EPSU (4 EPSUs per airplane) | $3,740

We estimate the following costs to do any necessary replacements that will be required based on the results of the inspection. We have no way of determining the number of aircraft that might need these replacements:

On-Condition Costs
Action | Labor cost | Parts cost | Cost per product
Replacement | 1 work-hour × $85 per hour = $85 per EPSU | Not available | $85

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-09-12 ATR-GIE Avions de Transport Régional: Amendment 39-18874; Docket No. FAA-2016-9430; Directorate Identifier 2016-NM-051-AD.

(a) Effective Date

This AD is effective June 27, 2017.

(b) Affected ADs

None.

(c) Applicability

This AD applies to the ATR-GIE Avions de Transport Régional airplanes, certificated in any category, identified in paragraphs (c)(1) and (c)(2) of this AD.

(1) Model ATR42-500 airplanes, all manufacturer serial numbers (MSNs), except those on which ATR Modification 6780 has been embodied in production.

(2) Model ATR72-102, -202, -212, and -212A airplanes, all MSNs on which ATR Modification 3715 has been embodied in production, except those on which ATR Modification 6780 has been embodied in production.

(d) Subject

Air Transport Association (ATA) of America Code 33, Lights.

(e) Reason

This AD was prompted by reports of failure of emergency power supply units (EPSUs) in production and in service. We are issuing this AD to detect and correct defective internal electronic components, which could adversely affect the EPSU internal battery. This condition could result in a partial or total loss of emergency lighting, possibly affecting passenger evacuation during an emergency situation.

(f) Compliance

Comply with this AD within the compliance times specified, unless already done.

(g) Inspection of EPSU and Corrective Action

Within 12 months after the effective date of this AD, inspect each EPSU on the airplane to determine the part number (P/N) and serial number. For any EPSU having P/N 301-3100 Amendment (Amdt) A and a serial number identified in figure 1 to paragraph (g) of this AD, and that does not have a control sticker marked with “SIL 301-3100-33-001”: Except as provided by paragraph (i) of this AD, before further flight, replace the EPSU with a serviceable unit, as specified in paragraph (h) of this AD, in accordance with the Accomplishment Instructions of ATR Service Bulletin ATR42-33-0050, Revision 03, dated May 25, 2016; or Service Bulletin ATR72-33-1043, Revision 03, dated July 20, 2016; as applicable. A review of airplane maintenance records may be done in lieu of inspection of the EPSUs on the airplane if the part number and serial number of each EPSU can be positively determined from that review.

Figure 1 to Paragraph (g) of This AD—Affected Serial Numbers of EPSU P/N 301-3100 Amdt A
Affected Serial Numbers of EPSU P/N 301-3100 Amdt A
2905 | 4929 | 4960 | 4994 | 5025 | 5077 | 5113 | 5156
2906 | 4930 | 4961 | 4995 | 5026 | 5079 | 5114 | 5157
3401 | 4931 | 4962 | 4996 | 5027 | 5080 | 5115 | 5158
3697 | 4932 | 4963 | 4997 | 5028 | 5081 | 5116 | 5159
3825 | 4933 | 4964 | 4998 | 5029 | 5082 | 5117 | 5160
4343 | 4934 | 4965 | 4999 | 5031 | 5083 | 5118 | 5161
4420 | 4935 | 4966 | 5000 | 5032 | 5084 | 5119 | 5162
4634 | 4936 | 4967 | 5001 | 5033 | 5085 | 5120 | 5163
4706 | 4937 | 4968 | 5002 | 5034 | 5086 | 5121 | 5164
4707 | 4938 | 4969 | 5003 | 5038 | 5087 | 5122 | 5166
4708 | 4939 | 4970 | 5004 | 5041 | 5088 | 5123 | 5171
4709 | 4940 | 4971 | 5005 | 5042 | 5089 | 5124 | 5172
4710 | 4941 | 4972 | 5006 | 5046 | 5090 | 5125 | 5173
4711 | 4942 | 4973 | 5007 | 5047 | 5091 | 5126 | 5174
4712 | 4943 | 4976 | 5008 | 5050 | 5092 | 5127 | 5175
4713 | 4944 | 4977 | 5009 | 5052 | 5096 | 5128 | 5176
4714 | 4945 | 4978 | 5010 | 5054 | 5097 | 5129 | 5177
4715 | 4946 | 4979 | 5011 | 5055 | 5098 | 5130 | 5178
4716 | 4947 | 4980 | 5012 | 5056 | 5099 | 5131 | 5179
4717 | 4948 | 4981 | 5013 | 5058 | 5100 | 5132 | 5180
4718 | 4949 | 4982 | 5014 | 5059 | 5101 | 5133 | 5181
4719 | 4950 | 4983 | 5015 | 5065 | 5103 | 5134 | 5182
4720 | 4951 | 4984 | 5016 | 5067 | 5104 | 5135 | 5183
4721 | 4952 | 4985 | 5017 | 5068 | 5105 | 5136 | 5184
4722 | 4953 | 4986 | 5018 | 5069 | 5106 | 5138 | 5185
4723 | 4954 | 4987 | 5019 | 5070 | 5107 | 5139 | 5186
4724 | 4955 | 4988 | 5020 | 5071 | 5108 | 5140 | 5187
4745 | 4956 | 4989 | 5021 | 5072 | 5109 | 5147 | None
4926 | 4957 | 4990 | 5022 | 5073 | 5110 | 5153 | None
4927 | 4958 | 4991 | 5023 | 5075 | 5111 | 5154 | None
4928 | 4959 | 4993 | 5024 | 5076 | 5112 | 5155 | None

(h) Definition of Serviceable EPSU

For the purpose of this AD, a serviceable EPSU is one that meets the criteria in paragraph (h)(1), (h)(2), or (h)(3) of this AD.

(1) Has P/N 301-3100 Amdt A and a serial number that is not included figure 1 to paragraph (g) of this AD.

(2) Has P/N 301-3100 Amdt A and a serial number that is included in figure 1 to paragraph (g) of this AD, but has a control sticker marked with “SIL 301-3100-33-001.”

(3) Has P/N 301-3100 Amdt B, or later amendment.

(i) Alternative Modification of Affected EPSU

In lieu of the replacement required by paragraph (g) of this AD, modification of an affected EPSU may be done in accordance with the Accomplishment Instructions of COBHAM Service Bulletin 301-3100-33-002, Revision 3, dated July 30, 2015.

(j) Parts Installation Prohibition

As of the effective date of this AD, no person may install on any airplane any EPSU having P/N 301-3100 Amdt A and a serial number identified in figure 1 to paragraph (g) of this AD, unless it has a control sticker marked with “SIL 301-3100-33-001.”

(k) Credit for Previous Actions

This paragraph provides credit for actions required by paragraph (g) of this AD, if those actions were performed before the effective date of this AD using the applicable service information identified in paragraph (k)(1), (k)(2), (k)(3), (k)(4), (k)(5), or (k)(6) of this AD, provided it can be determined that no EPSU having a serial number listed in figure 1 to paragraph (g) of this AD has been installed on that airplane since the actions in the applicable service bulletin were completed.

(1) ATR Service Bulletin ATR42-33-0050, dated December 11, 2015.

(2) ATR Service Bulletin ATR42-33-0050, Revision 01, dated January 26, 2016.

(3) ATR Service Bulletin ATR42-33-0050, Revision 02, dated May 2, 2016.

(4) ATR Service Bulletin ATR72-33-1043, dated December 11, 2015.

(5) ATR Service Bulletin ATR72-33-1043, Revision 01, dated January 26, 2016.

(6) ATR Service Bulletin ATR72-33-1043, Revision 02, dated May 2, 2016.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone 425-227-1112; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or ATR-GIE Avions de Transport Régional's EASA Design Organization Approval (DOA). If approved by the DOA, the approval must include the DOA-authorized signature.

(m) Related Information

(1) Refer to Mandatory Continuing Airworthiness Information (MCAI) EASA AD 2016-0070, dated April 11, 2016; corrected April 12, 2016; for related information. This MCAI may be found in the AD docket on the Internet at http://www.regulations.gov by searching for and locating Docket No. FAA-2016-9430.

(2) For more information about this AD, contact Shahram Daneshmandi, Aerospace Engineer, International Branch, ANM-116, Transport Airplane Directorate, FAA, 1601 Lind Avenue SW., Renton, WA 98057-3356; telephone 425-227-1112; fax 425-227-1149. Information may be emailed to: 9-ANM-116-AMOC-REQUESTS@faa.gov.

(3) Service information identified in this AD that is not incorporated by reference is available at the addresses specified in paragraphs (n)(3), (n)(4), and (n)(5) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR Service Bulletin ATR42-33-0050, Revision 03, dated May 25, 2016.

(ii) ATR Service Bulletin ATR72-33-1043, Revision 03, dated July 20, 2016.

(iii) COBHAM Service Bulletin 301-3100-33-002, Revision 3, dated July 30, 2015.

(3) For ATR service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com.

(4) For COBHAM service information identified in this AD, contact Cobham Aerospace Communications, 174-178 Quai de Jemmapes, Paris, France, 75010; telephone +33 (0) 1 53 38 98 98; fax +33 (0) 1 42 00 67 83.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on April 27, 2017.
Paul Bernado,
Acting Manager, Transport Airplane Directorate, Aircraft Certification Service.

[FR Doc. 2017-10258 Filed 5-22-17; 8:45 am]

BILLING CODE 4910-13-P